DEPARTMENT OF ENERGY

Federal Energy Regulatory Commission

[Docket No. CP07-393-000]

Nornew Energy Supply, Inc.; Notice of Application

June 4, 2007.

Take notice that on May 25, 2007, Nornew Energy Supply, Inc. (Nornew), 2500 Tanglewilde, Suite 250, Houston, Texas 77063, filed in Docket No. CP07-393-000 an abbreviated application pursuant to sections 1(c) and 7(b) of the Natural Gas Act (NGA), as amended, and sections 152 and 157 of the Commission's regulations, for an order declaring that Nornew may abandon its jurisdictional transportation services and that the company and its facilities and services will be exempt from Commission regulation.

Copies of this filing are available for review at the Commission's Washington, DC offices or may be viewed on the Commission's Web site at http://www.ferc.gov/ using the “e-Library” link. Enter the docket number, excluding the last three digits, in the docket number field to access the document. For assistance, please contact FERC Online Support at ferconlinesupport@ferc.gov or Telephone: 202-502-6652; Toll-free: 1-866-208-3676; or for TTY, contact (202) 502-8659.

Any questions regarding these applications should be directed to Randall S. Rich, Bracewell & Giuliani LLP, 2000 K Street, NW., Suite 500, Washington, DC 20006; or phone (202) 828-5879; FAX (202) 857-2125; or e-mail randy.rich@bgllp.com.

There are two ways to become involved in the Commission's review of this application. First, any person wishing to obtain legal status by becoming a party to this proceeding should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this proposal. The Commission will consider these comments in determining the appropriate action to be taken, but the filing of a comment alone will not serve to make the filer a party to the proceeding. The Commission's rules require that persons filing comments in opposition to the proposal provide copies of their protests only to the party or parties directly involved in the protest.

Protests and interventions may be filed electronically via the Internet in lieu of paper; see 18 CFR 285.2001(a)(1)(iii) and the instructions on the Commission's Web site under the “e-filing” link. The Commission strongly encourages electronic filings.

Under the procedure herein provided for, unless otherwise advised, it will be unnecessary for New York to appear or be represented at the hearing.

Comment Date: 5 p.m. Eastern Time on June 25, 2007.

Kimberly D. Bose,
Secretary.

[FR Doc. E7-11448 Filed 6-13-07; 8:45 am]

BILLING CODE 6717-01-P